SURFACE TRANSPORTATION BOARD

[Docket No. FD 36045]

Paul Didelius—Continuance in Control Exemption—CWW, LLC

Paul Didelius (Didelius), an individual and noncarrier,¹ has filed a verified notice of exemption pursuant to 49 CFR 1180.2(d)(2) to continue in control of CWW, LLC (CWW), upon CWW's becoming a Class III rail carrier.

¹ Didelius currently owns 100% of LRY, LLCd/b/a Lake Railway (LRY), a Class III carrier that leases and operates rail lines owned by Union Pacific Railroad Company in California and Oregon; 49% of YCR Corporation (YCR), a Class III rail carrier established for the purpose of leasing and operating a line of railroad owned by Yakima County, Wash.; 100% of CCET, LLC (CCET), a Class III short line rail carrier organized for the purpose of leasing and operating a rail line owned by Norfolk Southern Railway Company in Ohio; and 100% of WRL, LLC (WRL), a Class III carrier that leases and operates a rail line owned by Port of Royal Slope, a Washington state municipal corporation, in Washington.

This transaction is related to a concurrently filed verified notice of exemption in CWW, LLC—Lease & Operation Exemption—Port of Columbia, Wash., Docket No. FD 36044, wherein CWW seeks Board approval under 49 CFR 1150.31 to lease from the Port of Columbia, Wash., and to operate, approximately 37.1 miles of rail line, referred to as the Dayton Line, between milepost 33.0 near Walla Walla, Wash., and milepost 70.1 at Dayton, Wash.

The transaction may be consummated on or after July 30, 2016, the effective date of the exemption (30 days after the verified notice of exemption was filed).

Didelius represents that: (1) The rail properties that will be operated and controlled by Didelius, namely LRY, YCR, CCET, WRL, and CWW, do not physically connect; (2) there are no plans to acquire additional rail lines for the purpose of making a connection; and (3) each of the carriers involved in the continuance in control transaction is a Class III carrier. Therefore, the transaction is exempt from the prior approval requirements of 49 U.S.C. 11323. See 49 CFR 1180.2(d)(2).

Under 49 U.S.C. 10502(g), the Board may not use its exemption authority to relieve a rail carrier of its statutory obligation to protect the interests of its employees. Section 11326(c), however, does not provide for labor protection for transactions under §§ 11324 and 11325 that involve only Class III rail carriers. Accordingly, the Board may not impose labor protective conditions here, because all of the carriers involved are Class III carriers.

If the verified notice contains false or misleading information, the exemption is void ab initio. Petitions to revoke the exemption under 49 U.S.C. 10502(d) may be filed at any time. The filing of a petition to revoke will not automatically stay the effectiveness of the exemption. Petitions for stay must be filed no later than June 22, 2016 (at least seven days before the exemption becomes effective).

An original and 10 copies of all pleadings, referring to Docket No. FD 36045, must be filed with the Surface Transportation Board, 395 E Street SW., Washington, DC 20423-0001. In addition, one copy of each pleading must be served on James H.M. Savage, 22 Rockingham Court, Germantown, MD 20874.

Board decisions and notices are available on our Web site at www.stb.dot.gov.

Decided: July 12, 2016.
By the Board, Rachel D. Campbell, Director, Office of Proceedings.
Kenyatta Clay,
Clearance Clerk.

[FR Doc. 2016-16782 Filed 7-14-16; 8:45 am]

BILLING CODE 4915-01-P